FEDERAL DEPOSIT INSURANCE CORPORATION

Agency Information Collection Activities: Proposed Collection Renewals; Comment Request (3064-0022, 3064-0027 & 3064-0115)

AGENCY: Federal Deposit Insurance Corporation (FDIC).

ACTION: Notice and request for comment.

SUMMARY: The FDIC, as part of its continuing effort to reduce paperwork and respondent burden, invites the general public and other Federal agencies to take this opportunity to comment on the renewal of existing information collections, as required by the Paperwork Reduction Act of 1995 (44 U.S.C. 35). On October 20, 2014, (79 FR 62616), the FDIC requested comment for 60 days on a proposal to renew the following information collections: (1) Uniform Application/Uniform Termination for Municipal Securities Principal or Representative (3064-0022); (2) Request for Deregistration for Registered Transfer Agents (3064-0027); and, (3) Prompt Corrective Action (3064-0115). No comments were received. The FDIC hereby gives notice of its plan to submit to OMB a request to approve the renewal of these collections, and again invites comment on this renewal.

DATES: Comments must be submitted on or before January 28, 2015.

ADDRESSES: Interested parties are invited to submit written comments to the FDIC by any of the following methods:

• http://www.FDIC.gov/regulations/laws/federal/notices.html.

• Email: comments@fdic.gov Include the name and number of the collection in the subject line of the message.

• Mail: Gary A. Kuiper (202.898.3877), Counsel, John W. Popeo (202.898.6923), Counsel MB-3007, Federal Deposit Insurance Corporation, 550 17th Street NW., Washington, DC 20429.

• Hand Delivery: Comments may be hand-delivered to the guard station at the rear of the 17th Street Building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Gary A. Kuiper or John W. Popeo, at the FDIC address above.

SUPPLEMENTARY INFORMATION: Proposal to renew the following currently-approved collections of information:

1. Title: Uniform Application/Uniform Termination for Municipal Principal or Representative.

OMB Number: 3064-0022.

Form Numbers: Form MSD-4 or Form MSD-5.

Affected Public: State non-member banks and savings associations.

Estimated Number of Respondents: 75.

Estimated Time per Response: 1 hour.

Frequency of Response: On occasion.

Total estimated annual burden: 75 hours.

General Description of Collection: An insured state nonmember bank that serves as a municipal securities dealer must file Form MSD-4 or Form MSD-5, as applicable, to permit an employee to become associated with, or to terminate the association with, the municipal securities dealer. The filing requirements are based on rules promulgated by the Municipal Securities Rulemaking Board.

2. Title: Request for Deregistration for Registered Transfer Agents.

OMB Number: 3064-0027.

Form Number: FDIC Form 6342/12.

Affected Public: Insured financial institutions.

Estimated Number of Respondents: 5.

Frequency of Response: On occasion.

Estimated Annual Burden Hours per Response: .42 hours.

Total estimated annual burden: 2.1 hours.

General Description of Collection:

Under the Securities Exchange Act of 1934 (15 U.S.C. 78q-1), an insured nonmember bank (or a subsidiary of such a bank) that functions as a transfer agent may withdraw from registration as a transfer agent by filing a written notice of withdrawal with the FDIC. The FDIC requires such banks to file FDIC Form 6342/12.

3. Title: Prompt Corrective Action.

OMB Number: 3064-0115.

Affected Public: Insured financial institutions.

Estimated Burden Hours:

Number of reports submitted: 50.

Hours to prepare the report: 4 hours.

Total annual burden hours 200 hours.

General Description of Collection: The Prompt Corrective Action (“PCA”) provisions of section 38 of the Federal Deposit Insurance Act require or permit the FDIC and other federal banking agencies to take certain supervisory actions when FDIC-insured institutions fall within one of five capital categories. They also restrict or prohibit certain activities and require the submission of a capital restoration plan when an insured institution becomes undercapitalized. Various provisions of the statute and the FDIC's implementing regulations require the prior approval of the FDIC before an FDIC-supervised institution can engage in certain activities, or allow the FDIC to make exceptions to restrictions that would otherwise be imposed. This collection of information consists of the applications that are required to obtain the FDIC's prior approval.

Request for Comment

Comments are invited on: (a) Whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the information collections on respondents, including through the use of automated collection techniques or other forms of information technology. All comments will become a matter of public record.

Dated at Washington, DC, this 22nd day of December, 2014.
Federal Deposit Insurance Corporation.
Robert E. Feldman,
Executive Secretary.

[FR Doc. 2014-30333 Filed 12-24-14; 8:45 am]

BILLING CODE 6714-01-P